NUCLEAR REGULATORY COMMISSION

Advisory Committee on Reactor Safeguards (ACRS); Meeting of the ACRS Subcommittee on AP1000; Notice of Meeting

The ACRS Subcommittee on the AP1000 will hold a meeting on November 19-20, 2009, 11545 Rockville Pike, Room T2-B3, Rockville, Maryland.

The meeting will be open to public attendance.

The proposed agenda for the subject meeting is as follows:

Thursday, November 19, 2009-8:30 a.m.-5 p.m.

Friday, November 20, 2009-8:30 a.m.-5 pm.

The Subcommittee will review selected chapters of the Draft Safety Evaluation Report associated with the amendment to the Westinghouse AP1000 Design Certification Document. The Subcommittee will hear presentations by and hold discussions with both Westinghouse and NRC staff representatives regarding this matter. The Subcommittee will gather information, analyze relevant issues and facts, and formulate proposed positions and actions, as appropriate, for deliberation by the Full Committee.

Members of the public desiring to provide oral statements and/or written comments should notify the Designated Federal Official (DFO), Mr. Michael Lee, (Telephone 301-415-6887, E-mail: Mike.Lee@nrc.gov) five days prior to the meeting, if possible, so that appropriate arrangements can be made. Thirty-five hard copies of each presentation or handout should be provided to the DFO thirty minutes before the meeting. In addition, one electronic copy of each presentation should be e-mailed to the DFO one day before meeting. If an electronic copy cannot be provided within this timeframe, presenters should provide the DFO with a compact disk containing each presentation at least 30 minutes before the meeting. Electronic recordings will be permitted only during those portions of the meeting that are open to the public. Detailed procedures for the conduct of and participation in ACRS meetings were published in the Federal Register on October 14, 2009 (74 FR 58268-58269)

Detailed ACRS meeting agendas and meeting transcripts are available on the NRC Web site at http://www.nrc.gov/reading-rm/doc-collections/acrs/. Information regarding topics to be discussed, changes to the agenda, whether the meeting has been canceled or rescheduled, and the time allotted to present oral statements can be obtained from the Web site cited above or by contacting the identified DFO. Moreover, in view of the possibility that the schedule for ACRS meetings may be adjusted by the Chairman as necessary to facilitate the conduct of the meeting, persons planning to attend should check with these references if such rescheduling would result in major inconvenience.

Dated: October 19, 2009.
Antonio F. Dias,
Chief, Reactor Safety Branch B, Advisory Committee on Reactor Safeguards.

[FR Doc. E9-25730 Filed 10-23-09; 8:45 am]

BILLING CODE 7590-01-P